DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA).

Title: Construction Investments.

OMB Control Number: 0610-0096.

Form Number(s): None.

Type of Request: Regular submission.

Number of Respondents: 600.

Average Hours per Response: 14.

Burden Hours: 8,400.

Needs and Uses: EDA investments under the Public Works and Economic Adjustment Programs help distressed communities revitalize and upgrade their physical infrastructure and economic development facilities. Grants are awarded to eligible applicants to promote long-range economic development in order to reduce unemployment, and increase income. The grants are used to design, build, improve or expand vital public infrastructure and economic development facilities. These facilities, in turn, help regions to attract new, or support existing businesses that will result in an environment where higher-skilled, higher-wage jobs are created. EDA regulations at 13 CFR part 305 include program requirements that are unique to construction awards. In some cases, these involve reporting or record keeping requirements.

Affected Public: State and local governments; Indian Tribes; institutions of higher education; not-for-profit institutions; business or other for-profit organizations; individuals or households.

Frequency: Annually.

Respondent's Obligation: Voluntary.

OMB Desk Officer: Sharon Mar, (202) 395-6466.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Sharon Mar, OMB Desk Officer, FAX number (202) 395-5167, or Sharon_Mar@omb.eop.gov.

Dated: May 22, 2009.
Gwellnar Banks,
Management Analyst, Office of the Chief Information Officer.

[FR Doc. E9-12354 Filed 5-27-09; 8:45 am]

BILLING CODE 3510-34-P